DEPARTMENT OF HEALTH AND HUMAN SERVICES

Administration for Children and Families

Proposed Information Collection Activity; Comment Request

Title: Strengthening Relationship Education and Marriage Services (STREAMS) Evaluation

OMB No.: New Collection

Description: The Office of Family Assistance (OFA) within the Administration for Children and Familes (ACF) at the U.S. Department of Health and Human Services has issued grants to 46 organizations to provide healthy marriage and relationship education (HMRE) services. The Office of Planning, Research, and Evaluation (OPRE) within ACF proposes data collection activity in six HMRE grantees as part of the Strengthening Relationship Education and Marriage Services (STREAMS) evaluation. The purpose of STREAMS is to measure the effectiveness and quality of HMRE programs designed to strengthen intimate relationships. In particular, the evaluation will examine HMRE programs for youth in high school, at-risk youth, and adults. The study will fill knowledge gaps about the effectiveness of HMRE programming for youth and adults and strategies for improving program delivery and participant engagement in services. The STREAMS evaluation will include two components, an impact study and a process study.

1. Impact Study. The goal of the impact study is to provide rigorous estimates of the effectiveness of program services and interventions to improve program implementation. The impact study will use an experimental design. Eligible program applicants will be randomly assigned to either a program group that is offered program services or a control group that is not. Grantee staff will use an add-on to an existing program MIS (the nFORM system, OMB no. 0970-0460) to conduct random assignment in sites enrolling at-risk youth and adults. STREAMS will use classroom-level or school-level random assignment for programs serving youth in high school. STREAMS will collect baseline information from eligible program applicants prior to random assignment and administer a follow-up survey to all study participants 12 months after random assignment.

2. Process study. The goal of the process study is to support the interpretation of impact findings and document program operations to support future replication. STREAMS will conduct semi-structured interviews with program staff and selected community stakeholders, conduct focus groups with program participants, administer a paper-and-pencil survey to program staff, and collect data on adherence to program curricula through an add on to an existing program MIS (nForm, OMB no. 0970-0460).

This 60-Day Notice includes the following data collection activities: (1) Introductory script that program staff will use to introduce the study to participants, (2) the MIS functions for conducting random assignment, (3) a baseline survey for youth, (4) a baseline survey for adults, (5) a follow-up survey for youth, (6) a follow-up survey for adults, (7) a topic guide for semi-structured interviews with program staff and community stakeholders, (8) focus group guides for program participants, (9) a staff survey, and (10) the MIS functions for collecting data on adherence to program curricula.

Respondents: Program applicants, study participants, grantee staff, and local stakeholders (such as staff at referral agencies).

Annual Burden Estimates
Instrument | Total number of respondents | Annual number of respondents | Number of responses per respondent | Average burden hours per response | Annual burden hours
Impact Study, Introductory Script and Random Assignment
1. Grantee staff | 24 | 12 | 313 | .08 | 301
2. Program applicants | 7,500 | 3,750 | 1 | .08 | 300
3. Study MIS for grantee to conduct random assignment | 16 | 8 | 313 | .08 | 200
Impact Study, Baseline Surveys
4. Baseline Survey for Youth | 3,100 | 1,550 | 1 | .5 | 775
5. Baseline Survey for Adults | 4,000 | 2,000 | 1 | .5 | 1,000
6. Follow-up Survey for Youth | 2,790 | 1,395 | 1 | .5 | 698
7. Follow-up Survey for Adults | 3,200 | 1,600 | 1 | .75 | 1,200
Process Study
8. Topic guide for process study staff and stakeholder interviews | 150 | 75 | 1 | 1 | 75
9. Focus group guide for adults | 90 | 45 | 1 | 1.5 | 68
10. Focus group guide for youth in schools | 60 | 30 | 1 | 1.5 | 45
11. Focus group guide for youth out of schools | 30 | 15 | 1 | 1.5 | 23
12. Staff survey | 120 | 60 | 1 | .5 | 30
13. Study MIS nFORM for grantees to report session adherence to curriculum | 48 | 24 | 312 | .08 | 599

Estimated Total Annual Burden Hours: 5,314

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Certifying Officer.

[FR Doc. 2015-30994 Filed 12-8-15; 8:45 am]

BILLING CODE 4184-73-P